DEPARTMENT OF HEALTH AND HUMAN SERVICES

Presidential Advisory Council on HIV/AIDS

AGENCY: Office of the Secretary, Office of Public Health and Science.

ACTION: Notice of Meeting.

SUMMARY: As stipulated by the Federal Advisory Committee Act, the Department of Health and Human Services (DHHS) is hereby giving notice that the Presidential Advisory Council on HIV/AIDS (PACHA) will hold a meeting. This meeting is open to the public. A description of the Council's functions is included also with this notice.

DATES: June 21, 2002, 8:30 am to 4:00 pm, and June 22, 2002, 8:30 am to 3:00 pm.

ADDRESSES: Wyndham City Center Hotel; 1143 New Hampshire Avenue, N.W.; Washington, D.C. 20037.

FOR FURTHER INFORMATION CONTACT: Patricia F. Ware, Executive Director, Presidential Advisory Council on HIV/AIDS, 734 Jackson Place, NW., Washington, DC 20503; (202) 456-7334.

SUPPLEMENTARY INFORMATION: PACHA was established by Executive Order 12963, dated June 14, 1995, as amended by Executive Order 13009, dated June 14, 1996. The Council was established to provide advice, information, and recommendations to the Secretary regarding programs and policies intended to (a) promote effective prevention of HIV disease, (b) advance research on HIV and AIDS, and (c) promote quality services to persons living with HIV disease and AIDS. PACHA was established to serve solely as an advisory body to the Secretary of Health and Human Services. The Council is to be composed of not more than 35 members. Council membership is selected by the Secretary from individuals who are considered authorities with particular expertise in, or knowledge of, matters concerning HIV/AIDS.

The agenda for this Council meeting includes the following topics: HIV/AIDS prevention, short-term solutions to the AIDS Drug Assistance Program (ADAP) shortage, rapid testing, and international issues. Time will be allotted during the meeting to for public comment.

Dated: May 17, 2002.
Patricia F. Ware,
Executive Director, Presidential Advisory Council on HIV/AIDS.

[FR Doc. 02-13863 Filed 6-3-02; 8:45 am]

BILLING CODE 4150-28-M